DEPARTMENT OF LABOR

Employment and Training Administration

[TA-W-85,192]

Walter Kidde Portable Equipment, Inc., Edwards Division; a Subsidiary of UTC Building and Industrial Systems, Including On-Site Leased Workers From Adecco, PDI, Digital Intelligence Systems (DISYS) and Randstad Engineering; Pittsfield, Maine; Amended Certification Regarding Eligibility To Apply for Worker Adjustment Assistance

In accordance with Section 223 of the Trade Act of 1974, as amended (“Act”), 19 U.S.C. 2273, the Department of Labor issued a Certification of Eligibility to Apply for Worker Adjustment Assistance on April 18, 2014, applicable to workers of Walter Walter Kidde Portable Equipment, Inc., Edwards Division, including on-site leased workers from Adecco and PDI, Pittsfield, Maine. The Department's Notice of determination was published in the Federal Register on March 31, 2013 (79 FR 25893).

At the request of the State Workforce Office, the Department reviewed the certification for workers of the subject firm. The workers were engaged in activities related to the production of fire alarm and detection systems.

The company reports that workers leased from Digital Intelligence Systems (DISYS) and Randstad Engineering were employed on-site at the Pittsfield, Maine, location of Walter Kidde Portable Equipment, Inc., Edwards Division.

The Department has determined that these workers were sufficiently under the control of the subject firm to be considered leased workers.

Based on these findings, the Department is amending this certification to include workers leased from Digital Intelligence Systems (DISYS) and Randstad Engineering working on-site at the Pittsfield, Maine location of Walter Kidde Portable Equipment, Inc., Edwards Division.

The amended Notice applicable to TA-W-85,192 is hereby issued as follows:

“All workers of Walter Kidde Portable Equipment, Inc., Edwards Division, a subsidiary of UTC Building and Industrial Systems, including on-site leased workers from Adecco, PDI, Digital Intelligence Systems (DISYS) and Randstad Engineering, Pittsfield, Maine, who became totally or partially separated from employment on or after March 31, 2013, through April 18, 2016, are eligible to apply for adjustment assistance under Chapter 2 of Title II of the Trade Act of 1974, as amended, and are also eligible to apply for alternative trade adjustment assistance under Section 246 of the Trade Act of 1974, as amended.”

Signed in Washington, DC, this 24th day of February, 2016.
Jessica R. Webster,
Certifying Officer, Office of Trade Adjustment Assistance.

[FR Doc. 2016-06614 Filed 3-23-16; 8:45 am]

BILLING CODE 4510-FN-P